ELECTION ASSISTANCE COMMISSION

Testing and Certification Program Manuals

AGENCY: Election Assistance Commission.

ACTION: Notice, request for comment.

SUMMARY: The U.S. Election Assistance Commission (EAC) is publishing two documents for public comment. Version 3.1 of the Testing and Certification Program Manual and version 3.1 of the Voting System Testing Laboratory (VSTL) Program Manual. The EAC is seeking public comments on these manuals. The public comment period will last 60 days. These versions replace version 3.0 of both documents.

DATES: Comments must be received by 5 p.m. eastern on Friday November 15, 2024.

ADDRESSES: To view these documents, see: https://www.eac.gov/voting-equipment/manuals-and-forms under Draft Manuals. Comments on both manuals should be submitted electronically via https://www.regulations.gov (docket IDs: EAC-2024-0003). Written comments on the proposed document can also be sent to the U.S. Election Assistance Commission, 633 3rd Street NW, Suite 200, Washington, DC 20001, Attn: Testing and Certification.

FOR FURTHER INFORMATION CONTACT: Jonathan Le, Senior Election Technology Specialist, Testing and Certification Program. Telephone: 202-870-1140. Email: TestingCertification@eac.gov.

SUPPLEMENTARY INFORMATION: In late 2002, Congress passed the Help America Vote Act of 2002 (HAVA), which created the U.S. Election Assistance Commission (EAC) and vested it with the responsibility of setting voting system standards and for providing for the testing and certification of voting systems. This mandate represented the first time the Federal Government provided for the voluntary testing, certification and decertification of voting systems nationwide. In response to this HAVA requirement, the EAC has developed the Voting System Testing and Certification Program. The manuals provide the procedural requirements of the Program. Participation in the Program is voluntary, but if voting system manufacturers and laboratories decide to participate then they must conform to the Program's procedural requirements. The manuals are reviewed periodically and updated to meet the needs of the EAC, manufacturers, laboratories, election officials, and the greater election community.

Public Comments: Please note that comments submitted in response to this Notice are public record. Before including any detailed personal information, you should be aware that your submitted comments, including your personal information, will be available for public review.

Respondents: Election Supporting Technology Manufacturers, Voting System Test Laboratories, State and Local Election Officials.

Camden Kelliher,
Acting General Counsel, U.S. Election Assistance Commission.

[FR Doc. 2024-21072 Filed 9-16-24; 8:45 am]

BILLING CODE 4810-71-P